DEPARTMENT OF THE INTERIOR

Office of Surface Mining Reclamation and Enforcement

Black Mesa and Kayenta Coal Mines, Coal Slurry Preparation Plant and Pipeline, and Coconino Aquifer Water-Supply System, Coconino, Mohave, and Navajo Counties, AZ, and Clark County, NV

AGENCY: Office of Surface Mining Reclamation and Enforcement, Interior.

ACTION: Notice of availability of draft environmental impact statement for the Black Mesa Project.

SUMMARY: The Office of Surface Mining Reclamation and Enforcement (OSM) announces availability of the draft environmental impact statement (EIS) for the Black Mesa Project, the public comment period and procedures, and public meetings and procedures.

DATES: To ensure consideration in the preparation of the final EIS, written comments must be received by OSM by 4 p.m., m.s.t., on January 22, 2007.

Public meetings will be held in:

• Window Rock, Arizona, on January 2, 2007, from 6 p.m. to 9 p.m. in the Resource Room at the Navajo Nation Museum, Highway 64 and Loop Road.

• Forest Lake, Arizona, on January 3, 2007, from 6 p.m. to 9 p.m. at the Forest Lake Chapter House on Navajo Route 41 about 20 miles north of Pinon, Arizona.

• Moenkopi, Arizona, on January 3, 2007, from 6 p.m. to 9 p.m. at the Community Center.

• Kayenta, Arizona, on January 4, 2007, from 6 p.m. to 9 p.m. at the Monument Valley High School cafeteria, north Highway 163.

• Kykotsmovi, Arizona, on January 4, 2007, from 6 p.m. to 9 p.m. at the Veterans Center.

• Peach Springs, Arizona, on January 9, 2007, from noon to 3 p.m. at the Hualapai Lodge, 900 Route 66.

• Kingman, Arizona, on January 9, 2007, from 6 p.m. to 9 p.m. at the Hampton Inn, 1791 Sycamore Avenue.

• Leupp, Arizona, on January 9, 2007, from 6 p.m. to 9 p.m. at the Leupp Chapter House on Navajo Route 15.

• Winslow, Arizona, on January 10, 2007, from 6 p.m. to 9 p.m. at the Winslow High School, Student Union, 600 E. Cherry Avenue.

• Laughlin, Nevada, on January 10, 2007, from 6 p.m. to 9 p.m. at the Laughlin Town Hall, 101 Civic Way.

• Flagstaff, Arizona, on January 11, 2007, from 6 p.m. to 9 p.m. at the Little America Hotel, 2515 East Butler Avenue.

ADDRESSES: The draft EIS is available for review on OSM's Internet Web site at www.wrcc.osmre.gov/WR/BlackMesaEIS.htm. Paper and computer compact disk (CD) copies of the draft EIS are also available for review at the Office of Surface Mining, Western Region, 1999 Broadway, Suite 3320, Denver, Colorado 80202-5733.

A limited number of CD and paper copies of the draft EIS have been prepared and are available upon request. Because of the time and expense in producing and mailing CD and paper copies, OSM requests that you review the Internet or publicly-available copy, if possible. You may obtain a CD or paper copy by contacting the person identified below in FOR FURTHER INFORMATION CONTACT. In your request, indicate whether you want a CD or paper copy.

Comments on the draft EIS may be submitted in writing or by e-mail over the Internet. At the top of your letter or in the subject line of your e-mail message, indicate that the comments are “BMP Draft EIS Comments.” Include your name and return address in your letter or e-mail message.

• E-mail comments should be sent to BMKEIS@osmre.gov. If you do not receive a confirmation from the system that OSM has received your e-mail comment, contact the person identified in For Further Information Contact below.

• Written comments sent by first-class or priority U.S. Postal Service should be mailed to: Dennis Winterringer, Leader, Black Mesa Project EIS, OSM Western Region, P.O. Box 46667, Denver, Colorado 80201-6667.

• Comments delivered by U.S. Postal Service Express Mail or by courier service should be sent to: Dennis Winterringer, Leader, Black Mesa Project EIS, OSM Western Region, 1999 Broadway, Suite 3320, Denver, Colorado 80202-5733.

FOR FURTHER INFORMATION CONTACT: Dennis Winterringer, Leader, Black Mesa Project EIS, OSM Western Region, by telephone at (303) 844-1400, extension 1440, or by e-mail at BMKEIS@osmre.gov.

SUPPLEMENTARY INFORMATION:

I. Background on the Black Mesa Project EIS

II. Availability of Your Comments for Public Review

III. Specificity of Comments

IV. Public Meetings

I. Background on the Black Mesa Project EIS

Pursuant to the National Environmental Policy Act of 1969 (NEPA), OSM prepared a draft EIS analyzing the effects of the proposed Black Mesa Project. The proposed Project consists of Peabody Western Coal Company's operation and reclamation plans for coal mining at the Black Mesa Mine Complex near Kayenta, Arizona; Black Mesa Pipeline Incorporated's (BMPI's) Coal Slurry Preparation Plant at the Black Mesa Mine Complex; BMPI's reconstruction of the 273-mile long Coal Slurry Pipeline across northern Arizona from the Coal Slurry Preparation Plant to the Mohave Generating Station in Laughlin, Nevada; and Salt River Project's and Mohave Generation Station co-owners' construction and operation of a water supply system consisting of water wells in the Coconino aquifer (C aquifer) near Leupp, Arizona, and of a water supply pipeline running 108 miles across the Navajo and Hopi Reservations from the wells to the Coal Slurry Preparation Plant. More information about the project and EIS can be found on OSM's Internet Web site at www.wrcc.osmre.gov/WR/BlackMesaEIS.htm.

The Bureau of Indian Affairs; Bureau of Land Management; Bureau of Reclamation; U.S. Environmental Protection Agency; U.S. Department of Agriculture Forest Service; Hopi Tribe; Hualapai Tribe; Navajo Nation; County of Mohave, Arizona; and City of Kingman, Arizona, cooperated with OSM in the preparation of the draft EIS. As a part of its National Environmental Policy Act activities for the proposed project, U.S. Environmental Protection Agency will attend at least the January 3 and 4, 2007, meetings respectively in Moenkopi and Kayenta, Arizona.

II. Availability of Your Comments for Public Review

Our practice is to make comments, including names and home addresses, home phone numbers, and e-mail addresses of respondents, available for public review. Individual respondents may request that we withhold their names and/or home addresses, etc., but if you wish us to consider withholding this information you must state this prominently at the beginning of your comments and submit your comments by regular mail, not by e-mail. In addition, you must present a rationale for withholding this information. This rationale must demonstrate that disclosure would constitute an unwarranted invasion of privacy. Unsupported assertions will not meet this burden. In the absence of exceptional, documentable circumstances, this information will be released. We will always make submissions from organizations or businesses, and from individuals identifying themselves as representatives or officials of organizations or businesses, available for public inspection in their entirety.

III. Specificity of Written Comments

Written comments, including email comments, should be sent to OSM at the addresses given in the ADDRESSES section of this notice. Be specific in your comments and indicate the chapter, page, paragraph, and sentence your comments pertain to.

IV. Public Meetings

Public meeting rooms will be set up in four areas: (1) An area where an audio-visual presentation on the Black Mesa Project and EIS will be made, (2) an area with displays where meeting attendees may discuss the project proposal and the EIS process with OSM and others, (3) an area where meeting attendees may record and submit written comments, and (4) an area where an OSM representative and a transcriber will record oral comments.

To assist the transcriber and ensure an accurate record, OSM requests that each presenter of oral comments provide a written copy of his or her comments, if possible.

Hopi, Hualapai, and Navajo interpreters will be present respectively at meetings on the Hopi, Hualapai, and Navajo Reservations.

If you are disabled or need special accommodations to attend one of the meetings, contact the person under FOR FURTHER INFORMATION CONTACT at least 1 week before the meeting.

Dated: November 15, 2006.
Willie R. Taylor,
Director, Office of Environmental Policy and Compliance.

[FR Doc. E6-19672 Filed 11-21-06; 8:45 am]

BILLING CODE 4310-05-P